DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel Comparative Medicine.

Date: September 3-4, 2003.

Time: September 3, 2003, 8 a.m. to Adjournment.

Agenda: To review and evaluate grant applications.

Place: Hillsboro Courtyard by Marriott, 3050 Stucki Place, Hillsboro, OR 97124.

Contact Person: Carol Lambert, PhD, Scientific Review Administrator, Office of Review, National Center for Research Resources, National Institute of Health, 6701 Democracy Boulevard, 1 Democracy Plaza, Room 1076, Bethesda, MD 20892-4874, (301) 435-0814, lambert@mail.nih.gov.

Name of Committee: Scientific and Technical Review Board on Biomedical and Behavioral Research Facilities.

Date: October 6, 2003-8, 2004.

Open: October 6, 2003, 8 a.m. to 9 a.m.

Agenda: To discuss program planning and other issues.

Place: Double Tree Rockville, 1750 Rockville Pike, Rockville, MD 20852.

Closed: October 6, 2003, 9 a.m. to Adjournment.

Agenda: To review and evaluate grant applications.

Place: Double Tree Rockville, 1750 Rockville Pike, Rockville, MD 20852.

Contact Person: D.G. Patel, PhD, Scientific Review Administrator, National Institutes of Health, National Center For Research Resources, Office of Review, 6701 Democracy, Room 1070, MSC-4874, Bethesda, MD 20892, 301-435-0824, pateldg@mail.nih.gov.

Name of Committee: National Center for Research Resources Initial Review Group, Clinical Research Review Committee.

Date: October 8-9, 2003.

Open: October 8, 2003, 8 a.m. to 8:30 a.m.

Agenda: To discuss program planning and other issues.

Place: Holiday Inn Select Bethesda, 8120 Wisconsin Ave., Bethesda, MD 20814.

Closed: October 8, 2003, 8:30 a.m. to Adjournment.

Agenda: To review and evaluate grant applications.

Place: Holiday Inn Select Bethesda, 8120 Wisconsin Ave., Bethesda, MD 20814.

Contact Person: Sheryl K. Brining, PhD, Acting Director, Office of Review, National Center for Research Resources, National Institutes of Health, 6701 Democracy Boulevard, 1 Democracy Plaza, Room 1074, Bethesda, MD 20892-4874, 301-435-0809, sb44k@nih.gov.

Name of Committee: National Center for Research Resources Special Emphasis Panel Biomedical Research Technology.

Date: October 15-16, 2003.

Time: October 15, 2003, 8 a.m. to Adjournment.

Agenda: To review and evaluate grant applications.

Place: Bethesda Marriott Suites, 6711 Democracy Boulevard, Bethesda, MD 20817.

Contact Person: Bo Hong, PhD, Scientific Review Administrator, Office of Review, National Center for Research Resources, National Institutes of Health, One Democracy Plaza, 6701 Democracy Blvd., Room 1078, Bethesda, MD 20892-7965, (301) 435-0813, hongb@mail.nih.gov.

(Catalogue of Federal Domestic Assistance Program Nos. 93.306, Comparative Medicine; 93.333, Clinical Research; 93.371, Biomedical Technology; 93.389, Research Infrastructure, 93.306, 93.333, National Institutes of Health, HHS)

Dated: July 22, 2003.
LaVerne Y. Stringfield,
Director, Office of Federal Advisory Committee Policy.

[FR Doc. 03-19774 Filed 8-1-03; 8:45 am]

BILLING CODE 4140-01-M